ENVIRONMENTAL PROTECTION AGENCY

40 CFR Part 52

[Docket No. EPA-R02-OAR-2022-0459; FRL-10785-01-R2]

Approval of Air Quality Implementation Plans; New Jersey; New Jersey 2017 Periodic Emission Inventory SIP for Ozone Nonattainment and PM2.5/Regional Haze Areas, New Jersey Nonattainment Emission Inventory for 2008 Ozone NAAQS

AGENCY: Environmental Protection Agency (EPA).

ACTION: Proposed rule.

SUMMARY: The Environmental Protection Agency (EPA) is proposing to approve State Implementation Plan (SIP) revisions related to the 2008 8-hour ozone National Ambient Air Quality Standards (NAAQS). The SIP revision consists of the following: 2017 calendar year ozone precursor emission inventories for volatile organic compounds (VOC), oxides of nitrogen (NOX) and carbon monoxide (CO) for the Northern New Jersey portion of the New York-Northern New Jersey-Long Island NY-NJ-CT ozone nonattainment area (Northern New Jersey) and the Southern New Jersey portion of the Philadelphia-Wilmington-Atlantic City, PA-NJ-MD-DE ozone nonattainment area (Southern New Jersey).

DATES: Written comments must be received on or before June 20, 2023.

ADDRESSES: The EPA has established a docket for this action under Docket ID No. EPA-R02-OAR-2022-0459 at https://www.regulations.gov. Although listed in the index, some information is not publicly available, e.g., Confidential Business Information (CBI) or other information whose disclosure is restricted by statute. Certain other material, such as copyrighted material, is not placed on the internet and will be publicly available only in hard copy form. Publicly available docket materials are available through https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Ysabel Banon, Air Programs Branch, Environmental Protection Agency, 290 Broadway, 25th Floor, New York, New York 10007-1866, telephone number (212) 637-3382, or by email at banon.ysabel@epa.gov.

SUPPLEMENTARY INFORMATION: The SIP revision also consists of the 2017 calendar year statewide periodic emissions inventory for New Jersey. The pollutants included in this inventory include VOC, NOX, CO, particulate matter with an aerodynamic diameter less than or equal to 2.5 microns (PM2.5), particulate matter with an aerodynamic diameter less than or equal to 10 microns (PM10), ammonia (NH3) and sulfur dioxide (SO2). Emission inventories are needed to develop and assess new control strategies that the states may use in attainment demonstration SIPs associated with the NAAQS for ozone, CO and PM2.5 and for regional haze planning SIPs.

In addition, EPA is proposing to approve the demonstration portion of the comprehensive SIP revision submitted by New Jersey that certifies that the State has satisfied the requirements for a nonattainment emission inventory for a Serious classification of the 2008 NAAQS.

I. Background

A. Statutory and Regulatory Requirements for Emission Inventory

II. Description of State's Submittal

III. Evaluation of the State's Submittal

A. New Jersey 2017 Periodic Emission Inventory

B. New Jersey Nonattainment 2011 Revision Emission Inventory

IV. Proposed Action

V. Statutory and Executive Order Reviews

I. Background

Ozone is a gas that is formed by the reaction of VOC and NOX in the atmosphere in the presence of sunlight. Therefore, an emission inventory for ozone focuses on the emissions of VOC and NOX referred to as ozone precursors. These precursors (VOC and NOX) are emitted by many types of pollution sources, including point sources such as power plants and industrial emissions sources; on-road and off-road mobile sources (motor vehicles and engines); and smaller residential and commercial sources, such as dry cleaners, auto body shops, and household paints, collectively referred to as nonpoint sources (also called area sources).

The Clean Air Act (CAA or the Act) requires that areas designated as nonattainment for ozone and classified as moderate or worse demonstrate Reasonable Further Progress (RFP) by reducing emissions of ozone precursors (NOX and VOCs).¹

¹ See CAA sections 172(c)(2) and 182(b)(1) and 40 CFR 51.1110.

On March 12, 2008, the EPA revised both the primary and secondary NAAQS ² for ozone to a level of 0.075 parts per million (ppm) (annual fourth-highest daily maximum 8-hour average concentration, averaged over three years) to provide increased protection of public health and the environment. (See 73 FR 16436, March 27, 2008). The 2008 ozone NAAQS retains the same general form and averaging time as the 0.08 ppm NAAQS set on 1997, but is set at a more protective level. Under the EPA's regulations, the 2008 8-hour ozone NAAQS is attained when the 3-year average of the annual fourth highest daily maximum 8-hour average ambient air quality ozone concentrations is less than or equal to 0.075 ppm. See 40 CFR 50.15.³

² The primary ozone standards provide protection for children, older adults, and people with asthma or other lung diseases, and other at-risk populations against an array of adverse health effects that include reduced lung function, increased respiratory symptoms and pulmonary inflammation; effects that contribute to emergency department visits or hospital admissions; and mortality. The secondary ozone standards protect against adverse effects to the public welfare, including those related to impacts on sensitive vegetation and forested ecosystems.

³ For a detailed explanation of the calculation of the 3-year 8-hour average. (See 80 FR 65296 and 40 CFR part 50, Appendix U).

Effective July 20, 2012, the EPA designated as nonattainment any area that was violating the 2008 8-hour ozone NAAQS based on the three most recent years (2008-2010) of air monitoring data. (See 77 FR 30088, May 21, 2012). With that rulemaking, Northern New Jersey and Southern New Jersey areas were designated as marginal ozone nonattainment areas. Areas that were designated as marginal nonattainment were required to attain the 2008 8-hour ozone NAAQS no later than July 20, 2015, based on 2012-2014 monitoring data.

The counties in Northern New Jersey consist of Bergen, Essex, Hudson, Hunterdon, Middlesex, Monmouth, Morris, Passaic, Somerset, Sussex, Union, and Warren. The counties in Southern New Jersey consist of Atlantic, Burlington, Camden, Cape May, Cumberland, Gloucester, Mercer, Ocean, and Salem.

On May 4, 2016, the EPA published its determination that Northern New Jersey had failed to attain the 2008 8-hour ozone NAAQS by the attainment deadline and the area was reclassified to moderate ozone nonattainment area. See 40 CFR 81.306. (See 81 FR 26697). Moderate areas are required to attain the 2008 8-hour ozone NAAQS by no later than six years after the effective date of designations, or July 20, 2018, based on 2015-2017 monitoring data See 40 CFR 51.903.

Effective September 23, 2019, the EPA published its determination that Northern New Jersey had failed to attain 2008 8-hour ozone NAAQS by the attainment deadline based on the monitoring data (2015-17), and the area was reclassified as serious nonattainment area. (See 84 FR 44238, August 23, 2019). Areas that were designated as serious nonattainment were required to attain the 2008 ozone NAAQS no later than July 20, 2021, based on 2018-2020 monitoring data. (See id.)

Effective November 7, 2022, the EPA published its determination that Northern New Jersey had failed to attain 2008 8-hour ozone NAAQS by the attainment deadline based on the most recent years (2018-2020). (See 87 FR 60926, October 7, 2022). Areas that were reclassified as severe nonattainment were required to attain the 2008 8-hour ozone NAAQS must attain the standard “as expeditious as practicable” but no later than July 20, 2027, based on 2024-2026 monitoring data. (See id.)

A. Statutory and Regulatory Requirements for Emission Inventories

Section 182(a)(3)(B) of the Act requires states with ozone nonattainment areas to submit revisions to their SIP to require the owner or operator of each major stationary source of NOX or VOC to provide the state with annual statements documenting the actual emissions of NOX and VOC from their sources. For nonattainment areas, air agencies must develop, and include in their SIPs, emission reporting programs for certain VOC and NOX sources. CAA section 110, in conjunction with 40 CFR 51.102, 51.103 and Appendix V, establishes the procedure for submitting a SIP revision. In addition, 40 CFR 51.308(d)(4)(v) of EPA's Regional Haze Rule (RHR) requires the establishment of a statewide emissions inventory of pollutants that are reasonably anticipated to cause or contribute to visibility impairment in any mandatory Class I area.

Sections 172(c)(3) and 182(a)(1) of the Act require states to develop and submit, as a SIP revision, “base year” emissions inventories for all areas designated as nonattainment for an ozone NAAQS.

The EPA's 2008 ozone NAAQS was published on March 6, 2015 (the 2008 ozone rule). (See 80 FR 12264). The 2008 ozone rule established implementation requirements for the 2008 ozone NAAQS, including requirements for base year emissions inventories under CAA section 182(a)(1). (See id.). The ozone rule for the 2008 ozone NAAQS is codified at 40 CFR part 51, subpart CC, and the emissions inventory requirements are codified at 40 CFR 51.1315.

40 CFR 51.1315(a) requires each ozone nonattainment area to submit a base year inventory within 2 years of designation. 40 CFR 51.1315(a) also requires that the inventory year be selected consistent with the baseline year for the RFP plan as required by 40 CFR 51.1310(b), which states that the baseline emissions inventory shall be the emissions inventory for the most recent calendar year for which a complete triennial inventory is required to be submitted to the EPA under the provisions of subpart A of 40 CFR part 51, Air Emissions Reporting Requirements, 40 CFR 51.1 through 50. New Jersey selected 2017 as their baseline emissions inventory year for RFP.

For the ozone NAAQS, states are required to submit ozone season day emissions estimates for an inventory calendar year to be consistent with the baseline year for RFP plans as required by 40 CFR 51.1310(b) and 40 CFR 51.1315. Under 40 CFR 51.1310(b), for the 2008 ozone NAAQS, the RFP baseline year is the most recent calendar year for which a complete triennial inventory is required to be submitted to the EPA under 40 CFR 51 subpart A. States may use an alternative baseline emissions inventory provided that the year selected corresponds with the year of the effective date of designation as nonattainment for that NAAQS.

40 CFR 51.1315(c) requires emissions values included in the base year inventory to be actual ozone season day emissions as defined by 40 CFR 51.1300(q), which states that ozone season day emissions are an average day's emissions for a typical ozone season work weekday. Per EPA's 2017 guidance on emissions inventory development, the selected ozone season should be representative of the conditions leading to nonattainment.⁴

⁴ EPA, “Emissions Inventory Guidance for Implementation of Ozone and Particulate Matter National Ambient Air Quality Standards (NAAQS) and Regional Haze Regulations”, at 75 (May 2017).

Sections 182(a)(1), 182(a)(3) and 172(c)(3) of the Act require the periodic submission of emissions inventories for the SIP planning process to address the pollutants for the ozone, PM2.5 and CO NAAQS. Identifying the calendar year gives certainty to states that require submission of the ozone, PM2.5 and CO emission inventories periodically. These requirements allow the EPA, based on the states' progress in reducing emissions, to periodically reassess its policies and air quality standards and revise them as necessary. Most important, the ozone, PM2.5 and CO inventories will be used to develop and assess new control strategies that the states may use in attainment demonstration SIPs for the new NAAQS for ozone and PM2.5. The inventory may also serve as part of statewide inventories for purposes of regional modeling in transport areas. The inventory plays an important role in modeling demonstrations for areas classified as nonattainment and outside transport regions. For Regional Haze, New Jersey has a Class I area within its borders: Brigantine Wilderness Area. Emissions from New Jersey's sources were also found to impact visibility at several other Class I areas: Acadia National Park and the Moosehorn Wilderness Area in Maine, the Great Gulf Wilderness Area and Presidential Range/Dry River and the Lye Brook Wilderness Area in Vermont. (See 76 FR 49711, August 11, 2011). Therefore, an emissions inventory is needed for the Regional Haze air quality planning program effort.

The pollutants inventoried by New Jersey include VOC, NOX, and CO summertime daily and annual emissions for the ozone areas; and VOC, NOX, PM2.5, PM10, NH3 and SO2 annual emissions for the PM2.5 and/or Regional Haze areas. For the reasons stated above, EPA would therefore emphasize the importance and benefits of developing a comprehensive, current, and accurate ozone and PM2.5/Regional Haze emissions inventory (similar to the 1990 base year inventory effort). In this case, New Jersey selected the 2017 calendar year as the inventory that it will use for planning purposes for ozone and PM2.5/Regional Haze areas.

II. Description of State's Submittal

CAA Section 182 subpart 2 outlines SIP requirements applicable to ozone nonattainment areas in each classification category. On November 23, 2021, New Jersey submitted a comprehensive SIP revision that included the 2017 calendar year ozone precursor emission inventory for VOC, NOX, CO, PM2.5, PM10, NH3 and SO2 for the Northern New Jersey and Southern New Jersey ozone nonattainment areas. In addition, the SIP revision submittal consisted of the 2017 calendar year statewide periodic emissions inventory for VOC, NOX and CO, and a revision for the 2011 nonattainment base year emission inventory for the previous Serious classification of the 2008 NAAQS for the Northern New Jersey nonattainment area. On March 31, 2023, New Jersey submitted a technical correction to the EPA regarding their 2017 SO2 point source inventory emissions by category. The technical correction was necessary because the previously submitted emissions for SO2 that were incorrect.

The New Jersey emissions inventory SIP revision will ensure that the requirements for emissions inventory measures and reporting are adequately met. To comply with the emissions inventory requirements, New Jersey submitted a complete inventory containing point, area, on-road, and non-road mobile source data, anthropogenic sources, as well as biogenic sources and wildfires and prescribed fires, in the nonattainment areas and accompanying documentation.

III. Evaluation of State's Submittals

A. New Jersey 2017 Periodic Emission Inventory

Based on the EPA's review, the 2017 periodic year emissions inventory for New Jersey's ozone nonattainment areas, and the entire State include essential data elements, source categories, sample calculations, or report documentation to allow the EPA to adequately determine if the inventory is accurate and complete. Consequently, New Jersey's 2017 base year emissions inventory is consistent with the ozone base year emission inventory reporting requirements based on EPA guidance. New Jersey's 2017 base year inventory is consistent with the ozone base year emission inventory reporting requirements for the following reasons:

1. Evidence that the inventory was quality assured by the State and its implementation documented;

2. The point source inventory must be complete;

3. Point source emissions must have been prepared or calculated according to current EPA guidance;

4. The area source inventory must be complete;

5. The area source emissions must have been prepared or calculated according to current EPA guidance;

6. Non-road mobile emissions must have been prepared according to current EPA guidance for all of the source categories;

7. The method (e.g., Highway Performance Monitoring System or a network transportation planning model) used to develop the vehicle miles travelled (VMT) estimates must follow EPA guidance (the VMT development methods were described and documented in the inventory report); and

8. On-road mobile emissions were prepared according to the guidance.

Annual and ozone season day point, area, non-road, on-road, biogenic, and wildfires and prescribed fires emissions are identified in the inventory. Based on the EPA's review, New Jersey satisfies all of the EPA's requirements for purposes of providing a comprehensive accurate, and current inventory of actual emissions for the ozone nonattainment. A summary of the EPA's review is given below:

1. The Quality Assurance (QA) plan was implemented for all portions of the inventory. The QA plan included a QA/Quality control (QC) program for assessing data completeness and standard range checking. Critical data elements relative to the inventory sources were assessed for completeness. QA checks were performed relative to data collection and analysis, and double counting of emissions from point, area, and mobile sources. QA/QC checks were conducted to ensure accuracy of units, unit conversions, transposition of figures, and calculations. The inventory is well documented. New Jersey provided documentation detailing the methods used to develop emissions estimates for each category. In addition, New Jersey identified the sources of data it used to develop the inventory;

2. The point source emissions are complete in accordance with EPA guidance;

3. The point source emissions were prepared and calculated in accordance with EPA guidance;

4. The area source emissions are complete in accordance with EPA guidance;

5. Area source emissions were prepared and calculated in accordance with EPA guidance;

6. Emission estimates for the non-road mobile source categories are correctly based on the latest non-road mobile model or other appropriate guidance and prepared in accordance with EPA guidance;

7. The method used to develop VMT estimates is in accordance with EPA guidance and was adequately described and documented in the inventory report; and

8. The latest Motor Vehicle Emission Simulator (MOVES2014b) model was used in accordance with EPA guidance.

New Jersey's 2017 ozone emission inventory has been developed in accordance with EPA guidance. Therefore, the EPA is proposing to approve the emission inventory. Detailed emission inventory development procedures can be found in the following document: Emission Inventory Guidance for Implementation of Ozone and Particulate Matter NAAQS and Regional Haze Regulation, dated July 2017; Using MOVES to Prepare Emission Inventories in State Implementation Plans and Transportation Conformity: Technical Guidance for MOVES2014, 2014b, first released in August 2018.

Table 1 below shows the statewide summary of the 2017 Annual emissions for VOC, NOX and CO. Tables 2 and 3 below show the 2017 CO, NOX, and VOC annual emission by category for the ozone nonattainment areas. Table 4 below shows the summary emission by category, in tons per ozone season day.

Table 1—Statewide Summary of 2017 Annual Emissions
[Tons]
2017 New Jersey State Annual Emissions | 2017 New Jersey State Annual Emissions: Point | 2017 New Jersey State Annual Emissions: Area | 2017 New Jersey State Annual Emissions: Onroad | 2017 New Jersey State Annual Emissions: Nonroad | 2017 New Jersey State Annual Emissions: Biogenic | 2017 New Jersey State Annual Emissions: Wildfire and prescribed burning | 2017 New Jersey State Annual Emissions: Total | 2017 New Jersey State Annual Emissions: Total anthropogenic
VOC | 6,809 | 81,555 | 28,652 | 25,476 | 88,238 | 5,690 | 236,420 | 142,492
NOX | 9,824 | 23,208 | 60,681 | 40,215 | 2,045 | 346 | 136,319 | 133,928
CO | 5,733 | 61,948 | 380,323 | 308,691 | 11,357 | 48,191 | 816,243 | 756,695

Table 2—Northern New Jersey Portion NJ-NY-CT Ozone Nonattainment Area 2017 Emission Inventory
County | VOC: Tons per summer day: Point sources | VOC: Tons per summer day: Area sources | VOC: Tons per summer day: Onroad sources | VOC: Tons per summer day: Nonroad sources | VOC: Tons per summer day: Biogenic | VOC: Tons per summer day: Wildfire and prescribed burning | VOC: Tons per summer day: Total | VOC: Tons per summer day: Total anthropogenic
Bergen | 2.11 | 23.83 | 9.06 | 7.42 | 4.06 | 0.08 | 46.56 | 42.42
Essex | 1.06 | 17.97 | 6.11 | 4.76 | 2.39 | NA | 32.30 | 29.90
Hudson | 1.71 | 15.46 | 3.52 | 2.75 | 1.03 | NA | 24.47 | 23.44
Hunterdon | 0.13 | 4.00 | 1.74 | 1.74 | 10.58 | 0.04 | 18.23 | 7.60
Middlesex | 15.89 | 22.32 | 8.23 | 5.41 | 5.82 | 0.03 | 57.71 | 51.86
Monmouth | 0.44 | 16.55 | 6.83 | 5.46 | 12.38 | 0.20 | 41.85 | 29.28
Morris | 0.50 | 14.09 | 5.25 | 4.96 | 14.41 | 0.07 | 39.30 | 24.81
Passaic | 0.77 | 12.15 | 3.98 | 2.59 | 8.36 | 0.14 | 27.99 | 19.49
Somerset | 0.89 | 9.44 | 3.38 | 3.77 | 7.44 | 0.02 | 24.94 | 17.48
Sussex | 0.16 | 3.93 | 1.54 | 1.59 | 17.30 | 0.15 | 24.66 | 7.21
Union | 3.23 | 13.89 | 5.06 | 3.20 | 2.00 | 0.00 | 27.39 | 25.38
Warren | 0.31 | 3.30 | 1.40 | 0.93 | 11.71 | 0.08 | 17.73 | 5.94
Total in Northern NAA Area | 27.21 | 156.93 | 56.10 | 44.58 | 97.48 | 0.82 | 383.12 | 284.82

County | NOX: Tons per summer day: Point sources | NOX: Tons per summer day: Area sources | NOX: Tons per summer day: Onroad sources | NOX: Tons per summer day: Nonroad sources | NOX: Tons per summer day: Biogenic | NOX: Tons per summer day: Wildfire and prescribed burning | NOX: Tons per summer day: Total | NOX: Tons per summer day: Total anthropogenic
Bergen | 2.16 | 2.84 | 15.71 | 10.03 | 0.07 | 0.01 | 30.82 | 30.74
Essex | 3.74 | 2.26 | 11.56 | 13.99 | 0.06 | NA | 31.61 | 31.55
Hudson | 0.85 | 1.81 | 6.26 | 17.89 | 0.03 | NA | 26.85 | 26.82
Hunterdon | 1.36 | 0.39 | 5.00 | 2.66 | 0.46 | 0.00 | 9.88 | 9.42
Middlesex | 7.02 | 2.55 | 18.72 | 8.92 | 0.21 | 0.00 | 37.43 | 37.21
Monmouth | 0.42 | 1.85 | 10.15 | 10.54 | 0.41 | 0.01 | 23.38 | 22.95
Morris | 0.72 | 1.78 | 10.48 | 4.88 | 0.16 | 0.00 | 18.03 | 17.86
Passaic | 0.15 | 1.25 | 5.37 | 3.49 | 0.07 | 0.01 | 10.34 | 10.26
Somerset | 4.62 | 1.16 | 7.70 | 4.18 | 0.27 | 0.00 | 17.93 | 17.66
Sussex | 0.10 | 0.42 | 1.84 | 1.38 | 0.27 | 0.01 | 4.02 | 3.74
Union | 8.20 | 1.49 | 9.57 | 5.35 | 0.05 | 0.00 | 24.67 | 24.62
Warren | 0.74 | 0.30 | 3.95 | 0.91 | 0.30 | 0.01 | 6.21 | 5.91
Total in Northern NAA Area | 30.08 | 18.12 | 106.31 | 84.23 | 2.35 | 0.06 | 241.15 | 238.75

County | CO: Tons per summer day: Point sources | CO: Tons per summer day: Area sources | CO: Tons per summer day: Onroad sources | CO: Tons per summer day: Nonroad sources | CO: Tons per summer day: Biogenic | CO: Tons per summer day: Wildfire and prescribed burning | CO: Tons per summer day: Total | CO: Tons per summer day: Total anthropogenic
Bergen | 0.92 | 3.98 | 122.21 | 144.08 | 0.76 | 0.71 | 272.66 | 271.20
Essex | 0.97 | 2.97 | 81.97 | 69.21 | 0.51 | NA | 155.63 | 155.12
Hudson | 0.70 | 2.16 | 38.99 | 34.28 | 0.24 | NA | 76.37 | 76.13
Hunterdon | 1.90 | 1.21 | 24.71 | 28.60 | 1.35 | 0.36 | 58.12 | 56.42
Middlesex | 7.20 | 3.45 | 121.47 | 100.96 | 1.01 | 0.25 | 234.34 | 233.08
Monmouth | 0.31 | 2.98 | 99.51 | 88.71 | 1.81 | 1.66 | 194.98 | 191.51
Morris | 0.54 | 3.02 | 75.05 | 90.22 | 1.60 | 0.61 | 171.04 | 168.83
Passaic | 0.18 | 1.79 | 47.11 | 45.02 | 0.95 | 1.19 | 96.24 | 94.10
Somerset | 2.00 | 1.83 | 46.47 | 71.11 | 1.04 | 0.18 | 122.64 | 121.41
Sussex | 1.33 | 1.48 | 17.41 | 19.01 | 1.81 | 1.26 | 42.29 | 39.23
Union | 2.23 | 2.08 | 64.71 | 59.87 | 0.45 | 0.04 | 129.38 | 128.89
Warren | 0.25 | 0.98 | 18.57 | 12.78 | 1.29 | 0.69 | 34.56 | 32.58
Total in State | 18.52 | 27.93 | 758.18 | 763.85 | 12.82 | 6.94 | 1,588.25 | 1,568.49
Notes: Biogenic annual emissions are from the USEPA 2017 NEI. 2017 tons per day values were estimated by dividing the annual value by 365.

Table 3—Southern New Jersey Portion PA-NJ-MD-DE Ozone Nonattainment Area 2017 Emission Inventory
County | VOC: Tons per summer day: Point sources | VOC: Tons per summer day: Area sources | VOC: Tons per summer day: Onroad sources | VOC: Tons per summer day: Nonroad sources | VOC: Tons per summer day: Biogenic | VOC: Tons per summer day: Wildfire and prescribed burning | VOC: Tons per summer day: Total | VOC: Tons per summer day: Total anthropogenic
Atlantic | 0.08 | 7.27 | 2.60 | 3.59 | 40.71 | 0.92 | 55.17 | 13.54
Burlington | 1.06 | 13.70 | 4.73 | 4.26 | 50.31 | 0.14 | 74.20 | 23.75
Camden | 0.67 | 12.56 | 4.62 | 2.55 | 15.62 | 0.10 | 36.12 | 20.40
Cape May | 0.08 | 2.98 | 1.04 | 3.69 | 14.71 | 0.06 | 22.57 | 7.79
Cumberland | 0.43 | 6.18 | 1.30 | 1.34 | 27.08 | 0.63 | 36.95 | 9.24
Gloucester | 5.36 | 14.43 | 2.89 | 2.42 | 16.97 | 0.56 | 42.63 | 25.10
Mercer | 0.36 | 10.20 | 7.02 | 2.60 | 9.72 | 0.01 | 29.91 | 20.17
Ocean | 0.45 | 14.31 | 5.69 | 6.45 | 41.73 | 10.97 | 79.61 | 26.91
Salem | 0.62 | 2.74 | 0.74 | 0.76 | 17.21 | 0.03 | 22.10 | 4.85
Total in Southern NAA Area | 9.10 | 84.37 | 30.63 | 27.66 | 234.06 | 13.43 | 399.25 | 151.76

County | NOX: Tons per summer day: Point sources | NOX: Tons per summer day: Area sources | NOX: Tons per summer day: Onroad sources | NOX: Tons per summer day: Nonroad sources | NOX: Tons per summer day: Biogenic | NOX: Tons per summer day: Wildfire and prescribed burning | NOX: Tons per summer day: Total | NOX: Tons per summer day: Total anthropogenic
Atlantic | 0.35 | 0.82 | 5.51 | 4.56 | 0.26 | 0.07 | 11.57 | 11.24
Burlington | 1.63 | 1.33 | 8.98 | 5.17 | 0.35 | 0.01 | 17.47 | 17.11
Camden | 2.27 | 1.43 | 7.73 | 3.88 | 0.18 | 0.00 | 15.50 | 15.32
Cape May | 0.11 | 0.30 | 2.06 | 4.27 | 0.18 | 0.00 | 6.92 | 6.73
Cumberland | 1.86 | 0.43 | 2.10 | 2.86 | 0.36 | 0.03 | 7.64 | 7.25
Gloucester | 5.59 | 0.79 | 5.66 | 3.48 | 0.28 | 0.04 | 15.85 | 15.52
Mercer | 1.02 | 1.40 | 3.60 | 4.01 | 0.19 | 0.00 | 10.22 | 10.03
Ocean | 2.02 | 1.34 | 7.90 | 6.37 | 0.26 | 0.46 | 18.35 | 17.63
Salem | 3.74 | 0.20 | 1.45 | 1.50 | 0.38 | 0.00 | 7.27 | 6.89
Total in Southern NAA Area | 18.58 | 8.04 | 44.99 | 36.12 | 2.44 | 0.62 | 110.79 | 107.73

County | CO: Tons per summer day: Point sources | CO: Tons per summer day: Area sources | CO: Tons per summer day: Onroad sources | CO: Tons per summer day: Nonroad sources | CO: Tons per summer day: Biogenic | CO: Tons per summer day: Wildfire and prescribed burning | CO: Tons per summer day: Total | CO: Tons per summer day: Total anthropogenic
Atlantic | 0.27 | 1.57 | 31.70 | 34.07 | 3.43 | 78.39 | 149.43 | 67.61
Burlington | 1.12 | 2.46 | 65.99 | 57.60 | 5.32 | 131.94 | 264.44 | 127.18
Camden | 0.61 | 2.12 | 58.55 | 44.31 | 1.48 | 107.62 | 214.69 | 105.60
Cape May | 0.15 | 0.62 | 11.41 | 28.82 | 1.41 | 43.27 | 85.68 | 41.00
Cumberland | 2.02 | 0.98 | 13.03 | 14.11 | 2.74 | 37.92 | 70.80 | 30.14
Gloucester | 2.32 | 1.48 | 41.87 | 38.35 | 1.78 | 89.87 | 175.66 | 84.01
Mercer | 0.65 | 1.99 | 49.42 | 45.39 | 1.29 | 98.52 | 197.26 | 97.45
Ocean | 2.09 | 2.51 | 74.09 | 62.02 | 4.25 | 237.28 | 382.24 | 140.71
Salem | 3.41 | 0.54 | 8.38 | 7.79 | 1.72 | 21.57 | 43.41 | 20.12
Total in State | 12.64 | 14.27 | 354.44 | 332.47 | 23.42 | 846.37 | 1,583.62 | 713.82
Notes: Biogenic annual emissions are from the USEPA 2017 NEI. 2017 tons per day values were estimated by dividing the annual value by 365.

Table 4—2017 Statewide Emission Inventory by County, Source Sector and Pollutant
County | VOC: Tons per year: Point sources | VOC: Tons per year: Area sources | VOC: Tons per year: Onroad sources | VOC: Tons per year: Nonroad sources | VOC: Tons per year: Biogenic | VOC: Tons per year: Wildfire and prescribed burning | VOC: Tons per year: Total | VOC: Tons per year: Total anthropogenic
Atlantic | 25.77 | 2,478 | 979 | 1,556 | 9,861 | 188 | 15,087 | 5,038
Bergen | 277.41 | 7,875 | 3,085 | 2,370 | 1,482 | 10 | 15,100 | 13,608
Burlington | 253.88 | 4,711 | 1,779 | 1,406 | 10,381 | 1,559 | 20,090 | 8,150
Camden | 256.74 | 4,184 | 1,729 | 828 | 2,739 | 100 | 9,837 | 6,997
Cape May | 10.33 | 1,009 | 402 | 1,592 | 5,829 | 174 | 9,016 | 3,013
Cumberland | 90.69 | 2,078 | 517 | 645 | 7,583 | 737 | 11,651 | 3,331
Essex | 286.06 | 5,914 | 2,059 | 1,624 | 874 | 331 | 11,087 | 9,883
Gloucester | 965.17 | 4,768 | 1,059 | 850 | 2,667 | 196 | 10,504 | 7,642
Hudson | 616.40 | 5,030 | 1,295 | 948 | 375 | 0 | 8,264 | 7,889
Hunterdon | 20.60 | 1,498 | 630 | 542 | 3,862 | 91 | 6,645 | 2,692
Mercer | 95.29 | 3,440 | 1,351 | 718 | 2,220 | 34 | 7,859 | 5,605
Middlesex | 1,798.78 | 7,398 | 2,556 | 1,577 | 2,124 | 4 | 15,458 | 13,330
Monmouth | 112.88 | 5,638 | 2,083 | 1,843 | 4,518 | 194 | 14,389 | 9,677
Morris | 115.06 | 4,990 | 1,706 | 1,567 | 5,261 | 181 | 13,819 | 8,378
Ocean | 149.61 | 5,038 | 1,941 | 3,246 | 8,728 | 1,760 | 20,862 | 10,375
Passaic | 154.29 | 3,980 | 1,407 | 906 | 3,051 | 17 | 9,514 | 6,447
Salem | 141.50 | 918 | 290 | 342 | 2,650 | 4 | 4,347 | 1,692
Somerset | 191.80 | 3,273 | 1,116 | 1,055 | 2,715 | 43 | 8,394 | 5,636
Sussex | 57.52 | 1,597 | 556 | 573 | 6,314 | 57 | 9,154 | 2,783
Union | 1,122.24 | 4,515 | 1,605 | 977 | 730 | 1 | 8,950 | 8,220
Warren | 67.12 | 1,222 | 508 | 311 | 4,273 | 10 | 6,391 | 2,108
Total in State | 6,809 | 81,555 | 28,652 | 25,476 | 88,238 | 5,690 | 236,420 | 142,492
Notes:
1. Onroad and nonroad annual values from are from the USEPA 2017 National Emission Inventory (NEI).
2. Biogenic annual emissions are from the USEPA 2017 NEI.

County | NOX: Tons per year: Point sources | NOX: Tons per year: Area sources | NOX: Tons per year: Onroad sources | NOX: Tons per year: Nonroad sources | NOX: Tons per year: Biogenic | NOX: Tons per year: Wildfire and prescribed burning | NOX: Tons per year: Total | NOX: Tons per year: Total anthropogenic
Atlantic | 58.01 | 731 | 2,056 | 1,517 | 117 | 14 | 4,493 | 4,362
Bergen | 455.04 | 2,534 | 6,281 | 3,737 | 27 | 1 | 13,035 | 13,007
Burlington | 168.88 | 1,180 | 3,900 | 1,511 | 183 | 103 | 7,045 | 6,759
Camden | 464.21 | 1,271 | 3,220 | 1,398 | 77 | 7 | 6,438 | 6,354
Cape May | 65.87 | 269 | 842 | 1,637 | 57 | 13 | 2,883 | 2,813
Cumberland | 345.33 | 371 | 997 | 1,029 | 163 | 42 | 2,947 | 2,742
Essex | 1,110.80 | 2,002 | 4,290 | 5,109 | 20 | 15 | 12,548 | 12,512
Gloucester | 1,592.71 | 728 | 2,409 | 1,361 | 154 | 16 | 6,261 | 6,091
Hudson | 135.42 | 1,581 | 2,464 | 5,756 | 10 | 0 | 9,946 | 9,936
Hunterdon | 102.20 | 350 | 1,940 | 679 | 166 | 8 | 3,245 | 3,070
Mercer | 178.12 | 1,176 | 2,903 | 806 | 107 | 3 | 5,173 | 5,063
Middlesex | 1,179.58 | 2,215 | 6,657 | 2,370 | 77 | 0 | 12,498 | 12,421
Monmouth | 95.59 | 1,668 | 3,635 | 3,425 | 150 | 14 | 8,988 | 8,824
Morris | 67.71 | 1,535 | 3,973 | 1,729 | 59 | 11 | 7,374 | 7,304
Ocean | 258.66 | 1,329 | 3,338 | 2,603 | 121 | 88 | 7,738 | 7,529
Passaic | 35.57 | 1,130 | 2,223 | 1,344 | 24 | 1 | 4,757 | 4,732
Salem | 726.41 | 172 | 740 | 538 | 209 | 0 | 2,386 | 2,176
Somerset | 120.89 | 999 | 2,920 | 1,198 | 97 | 4 | 5,339 | 5,238
Sussex | 27.04 | 362 | 748 | 304 | 100 | 5 | 1,547 | 1,442
Union | 2,400.28 | 1,328 | 3,585 | 1,904 | 18 | 0 | 9,235 | 9,217
Warren | 235.86 | 277 | 1,559 | 261 | 109 | 1 | 2,442 | 2,333
Total in State | 9,824 | 23,208 | 60,681 | 40,215 | 2,045 | 346 | 136,318 | 133,927
Notes:
1. Onroad and nonroad annual values from are from the USEPA 2017 National Emission Inventory (NEI).
2. Biogenic annual emissions are from the USEPA 2017 NEI.

County | CO: Tons per year: Point sources | CO: Tons per year: Area sources | CO: Tons per year: Onroad sources | CO: Tons per year: Nonroad sources | CO: Tons per year: Biogenic | CO: Tons per year: Wildfire and prescribed burning | CO: Tons per year: Total | CO: Tons per year: Total anthropogenic
Atlantic | 111.90 | 2,605 | 13,995 | 11,203 | 1,113 | 1,585 | 30,613 | 27,915
Bergen | 251.88 | 4,402 | 42,820 | 39,219 | 277 | 83 | 87,052 | 86,692
Burlington | 286.57 | 4,969 | 24,691 | 15,526 | 1,309 | 13,183 | 59,965 | 45,472
Camden | 129.63 | 2,835 | 20,911 | 12,295 | 414 | 846 | 37,430 | 36,170
Cape May | 52.20 | 941 | 5,532 | 10,939 | 631 | 1,470 | 19,566 | 17,464
Cumberland | 209.70 | 1,584 | 6,209 | 5,270 | 874 | 6,252 | 20,399 | 13,274
Essex | 312.88 | 2,674 | 28,144 | 21,038 | 185 | 2,816 | 55,170 | 52,169
Gloucester | 676.04 | 2,727 | 15,272 | 10,488 | 412 | 1,647 | 31,223 | 29,163
Hudson | 121.83 | 1,405 | 15,477 | 9,977 | 87 | 0 | 27,068 | 26,981
Hunterdon | 18.83 | 2,328 | 8,007 | 7,094 | 491 | 766 | 18,705 | 17,448
Mercer | 141.31 | 2,652 | 17,778 | 11,040 | 347 | 288 | 32,245 | 31,611
Middlesex | 1,409.67 | 3,831 | 36,385 | 25,734 | 368 | 30 | 67,757 | 67,360
Monmouth | 54.89 | 4,882 | 29,321 | 24,211 | 662 | 1,640 | 60,771 | 58,468
Morris | 76.89 | 5,673 | 23,026 | 23,618 | 584 | 1,531 | 54,509 | 52,394
Ocean | 515.58 | 5,287 | 25,610 | 23,355 | 1,156 | 14,952 | 70,874 | 54,767
Passaic | 41.20 | 2,077 | 17,069 | 12,884 | 348 | 140 | 32,560 | 32,072
Salem | 521.27 | 928 | 3,968 | 2,655 | 421 | 35 | 8,528 | 8,072
Somerset | 99.05 | 2,955 | 13,105 | 17,250 | 381 | 364 | 34,155 | 33,410
Sussex | 81.97 | 3,341 | 5,971 | 5,448 | 660 | 478 | 15,980 | 14,843
Union | 545.67 | 1,934 | 20,801 | 15,891 | 166 | 5 | 39,342 | 39,172
Warren | 73.73 | 1,918 | 6,231 | 3,556 | 471 | 81 | 12,332 | 11,779
Total in State | 5,733 | 61,948 | 380,323 | 308,691 | 11,357 | 48,191 | 816,243 | 756,695
Notes:
1. Onroad and nonroad annual values from are from the USEPA 2017 National Emission Inventory (NEI).
2. Biogenic annual emissions are from the USEPA 2017 NEI.

County | PM2.5: Tons per year: Point sources | PM2.5: Tons per year: Area sources | PM2.5: Tons per year: Onroad sources | PM2.5: Tons per year: Nonroad sources | PM2.5: Tons per year: Biogenic | PM2.5: Tons per year: Wildfire and prescribed burning | PM2.5: Tons per year: Total | PM2.5: Tons per year: Total anthropogenic
Atlantic | 15.98 | 498 | 50 | 94 | NA | 70 | 729 | 659
Bergen | 98.51 | 1,082 | 224 | 311 | NA | 4 | 1,720 | 1,716
Burlington | 35.17 | 887 | 123 | 108 | NA | 578 | 1,732 | 1,154
Camden | 42.80 | 557 | 111 | 102 | NA | 38 | 850 | 812
Cape May | 18.55 | 270 | 22 | 85 | NA | 66 | 461 | 395
Cumberland | 215.80 | 345 | 27 | 42 | NA | 269 | 899 | 631
Essex | 91.81 | 692 | 158 | 208 | NA | 119 | 1,269 | 1,150
Gloucester | 453.73 | 514 | 72 | 100 | NA | 74 | 1,214 | 1,139
Hudson | 45.04 | 462 | 105 | 176 | NA | 0 | 788 | 788
Hunterdon | 10.49 | 507 | 69 | 55 | NA | 35 | 677 | 642
Mercer | 48.02 | 519 | 100 | 84 | NA | 13 | 764 | 751
Middlesex | 375.27 | 868 | 232 | 188 | NA | 1 | 1,664 | 1,663
Monmouth | 33.24 | 1,077 | 113 | 205 | NA | 73 | 1,501 | 1,429
Morris | 7.18 | 1,007 | 140 | 174 | NA | 66 | 1,395 | 1,328
Ocean | 35.77 | 1,016 | 88 | 169 | NA | 634 | 1,943 | 1,309
Passaic | 1.03 | 498 | 77 | 108 | NA | 6 | 690 | 683
Salem | 134.77 | 283 | 21 | 23 | NA | 2 | 463 | 462
Somerset | 7.16 | 604 | 119 | 122 | NA | 17 | 869 | 853
Sussex | 4.31 | 553 | 25 | 33 | NA | 22 | 638 | 617
Union | 378.89 | 532 | 128 | 130 | NA | 0 | 1,168 | 1,168
Warren | 30.95 | 363 | 49 | 26 | NA | 4 | 472 | 469
Total in State | 2,084 | 13,136 | 2,055 | 2,543 | NA | 2,090 | 21,908 | 19,818
Notes:
¹ Onroad and nonroad annual values from are from the USEPA 2017 National Emission Inventory (NEI).
² Area Source fugitive dust emissions are post-adjustment.

County | SO2: Tons per year: Point sources | SO2: Tons per year: Area sources | SO2: Tons per year: Onroad sources | SO2: Tons per year: Nonroad sources | SO2: Tons per year: Biogenic | SO2: Tons per year: Wildfire and prescribed burning | SO2: Tons per year: Total | SO2: Tons per year: Total anthropogenic
Atlantic | 186.89 | 19 | 24 | 30 | NA | 7 | 267 | 260
Bergen | 42.59 | 44 | 73 | 11 | NA | 0 | 171 | 171
Burlington | 45.19 | 32 | 46 | 48 | NA | 53 | 225 | 171
Camden | 80.49 | 21 | 40 | 13 | NA | 4 | 158 | 155
Cape May | 36.21 | 6 | 10 | 5 | NA | 7 | 64 | 57
Cumberland | 195.12 | 15 | 11 | 13 | NA | 23 | 257 | 234
Essex | 71.66 | 45 | 48 | 334 | NA | 9 | 507 | 498
Gloucester | 528.98 | 17 | 28 | 18 | NA | 8 | 600 | 592
Hudson | 35.26 | 19 | 27 | 62 | NA | 0 | 143 | 143
Hunterdon | 0.80 | 16 | 19 | 2 | NA | 4 | 41 | 37
Mercer | 10.96 | 17 | 34 | 6 | NA | 1 | 70 | 68
Middlesex | 111.70 | 28 | 78 | 14 | NA | 0 | 231 | 231
Monmouth | 14.64 | 55 | 58 | 20 | NA | 7 | 154 | 147
Morris | 1.14 | 58 | 49 | 5 | NA | 6 | 119 | 113
Ocean | 48.45 | 26 | 43 | 18 | NA | 52 | 187 | 135
Passaic | 0.08 | 40 | 27 | 3 | NA | 1 | 71 | 70
Salem | 675.08 | 9 | 7 | 7 | NA | 0 | 699 | 699
Somerset | 1.97 | 18 | 33 | 3 | NA | 2 | 59 | 57
Sussex | 5.62 | 42 | 11 | 1 | NA | 2 | 62 | 60
Union | 101.95 | 16 | 40 | 16 | NA | 0 | 174 | 174
Warren | 26.28 | 13 | 14 | 1 | NA | 0 | 54 | 54
Total in State | 2,221 | 555 | 721 | 630 | NA | 186 | 4,313 | 4,127
Notes: Onroad and nonroad annual values from are from the USEPA 2017 National Emission Inventory (NEI).

County | Ammonia: Tons per year: Point sources | Ammonia: Tons per year: Area sources | Ammonia: Tons per year: Onroad sources | Ammonia: Tons per year: Nonroad sources | Ammonia: Tons per year: Biogenic | Ammonia: Tons per year: Wildfire and prescribed burning | Ammonia: Tons per year: Total | Ammonia: Tons per year: Total anthropogenic
Atlantic | 17.60 | 124 | 84 | 2 | NA | 13 | 240 | 227
Bergen | 286.02 | 78 | 220 | 6 | NA | 1 | 591 | 591
Burlington | 35.24 | 280 | 142 | 2 | NA | 108 | 568 | 460
Camden | 18.07 | 47 | 118 | 2 | NA | 7 | 193 | 186
Cape May | 0.69 | 44 | 33 | 2 | NA | 12 | 92 | 80
Cumberland | 30.40 | 149 | 35 | 1 | NA | 51 | 267 | 216
Essex | 67.96 | 167 | 144 | 4 | NA | 23 | 406 | 383
Gloucester | 130.82 | 171 | 90 | 2 | NA | 14 | 407 | 393
Hudson | 31.29 | 46 | 73 | 4 | NA | 0 | 154 | 154
Hunterdon | 1.32 | 266 | 54 | 1 | NA | 6 | 329 | 322
Mercer | 7.98 | 118 | 105 | 2 | NA | 2 | 235 | 233
Middlesex | 241.03 | 106 | 229 | 4 | NA | 0 | 580 | 579
Monmouth | 51.16 | 313 | 178 | 4 | NA | 14 | 561 | 547
Morris | 3.30 | 134 | 140 | 3 | NA | 13 | 293 | 280
Ocean | 76.85 | 162 | 142 | 4 | NA | 122 | 508 | 385
Passaic | 0.35 | 49 | 81 | 2 | NA | 1 | 134 | 132
Salem | 4.20 | 336 | 24 | 1 | NA | 0 | 365 | 364
Somerset | 0.76 | 89 | 91 | 2 | NA | 3 | 185 | 182
Sussex | 0.04 | 249 | 33 | 1 | NA | 4 | 287 | 283
Union | 107.41 | 29 | 116 | 3 | NA | 0 | 255 | 255
Warren | 7.55 | 293 | 40 | 0 | NA | 1 | 342 | 341
Total in State | 1,120 | 3,249 | 2,173 | 53 | NA | 396 | 6,990 | 6,594
Notes: Onroad and nonroad annual values from are from the USEPA 2017 National Emission Inventory (NEI).

B. New Jersey Nonattainment 2011 Revision Emission Inventory

On June 11, 2015, New Jersey submitted the 2011 ozone emissions inventory for the Northern New Jersey and Southern New Jersey ozone nonattainment areas and the 2011 emissions inventory for the PM2.5/Regional Haze areas and requested that EPA approve the emissions inventory SIP revision. EPA approved New Jersey's 2011 emission inventory. (See 82 FR 44099, September 6, 2017). Due to the reclassification of the Northern New Jersey and Southern New Jersey ozone nonattainment areas to serious nonattainment for the 2008 ozone NAAQS, New Jersey made revisions to the 2011 emission inventory. New Jersey affirmed in its November 23, 2021, submission that it is meeting the 2008 ozone NAAQS emission inventory requirements pursuant to CAA sections 182(a)(3)(A) and 182(c). The emission inventory requirement is addressed through the submission of the 2011 baseline emission inventory. Minor updates were made to the 2011 base year emissions inventory which included essential data elements, source categories, sample calculations, or report documentation according to the EPA guidance to allow the EPA to adequately determine if the inventory is accurate and complete. Consequently, New Jersey's 2011 base year emissions inventory was consistent with the ozone base year emission inventory reporting requirements based on EPA guidance.

IV. Proposed Action

The New Jersey 2017 emission inventory SIP revision will ensure that the requirements for emission inventory measures and reporting are adequately met. To comply with the emission inventory requirements, on November 23, 2021, New Jersey submitted the complete inventory containing point, area, on-road, non-road mobile, biogenic, and wildfires and prescribed fires source data, and accompanying documentation.

The EPA is proposing to approve New Jersey's 2017 and revised 2011 emission inventories SIP revision submittal as meeting the essential reporting requirements for emission inventories.

The EPA has also determined that the SIP revision meets the requirements for emission inventories in accordance with EPA guidance. Therefore, EPA is proposing to approve the revision to the New Jersey SIP that pertains to the 2017 calendar year summer season daily and annual ozone precursor emission inventories for VOC, NOx and CO for the New Jersey portion of the New York-Northern New Jersey-Long Island NY-NJ-CT, and the Southern New Jersey-Philadelphia-Delaware-Maryland nonattainment areas.

In addition, the EPA is proposing to approve the 2017 calendar year PM2.5/Regional Haze emissions inventory that was developed statewide for New Jersey. The pollutants included in the inventory are annual emissions for VOC, NOx, PM2.5, PM10, NH3 and SO2.

Additionally, the EPA is proposing to approve New Jersey's certification that it has met the requirements for nonattainment emission inventory and fully meets the requirements of the Act for the 2008 8-hour ozone NAAQS.

Interested parties may participate in the Federal rulemaking procedure by submitting written comments to the EPA Region 2 Office by the method discussed in the ADDRESSES section of this action.

V. Statutory and Executive Order Reviews

Under the Act, the Administrator is required to approve a SIP submission that complies with the provisions of the Act and applicable Federal regulations. 42 U.S.C. 7410(k); 40 CFR 52.02(a). Thus, in reviewing SIP submissions, EPA's role is to approve state choices, provided that they meet the criteria of the Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because this action does not involve technical standards;

In addition, the SIP is not proposing to apply on any Indian reservation land or in any other area where the EPA or an Indian tribe has demonstrated that a tribe has jurisdiction. In those areas of Indian country, the rulemaking does not have tribal implications and it will not impose substantial direct costs on tribal governments or preempt tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The New Jersey Department of Environmental Protection did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Authority: 42 U.S.C. 7401 et seq.

Lisa Garcia,
Regional Administrator, Region 2.

[FR Doc. 2023-10337 Filed 5-18-23; 8:45 am]

BILLING CODE 6560-50-P